DEPARTMENT OF VETERANS AFFAIRS

[OMB Control No. 2900-NEW]

Agency Information Collection Activity Under OMB Review: Application for Chapter 23 Burial Benefits

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-NEW.

FOR FURTHER INFORMATION CONTACT: Maribel Aponte, Office of Enterprise and Integration, Data Governance Analytics (008), 1717 H Street NW, Washington, DC 20006, (202) 266-4688 or email maribel.aponte@va.gov. Please refer to “OMB Control No. 2900-NEW” in any correspondence.

SUPPLEMENTARY INFORMATION:

Authority: 38 U.S.C. 23; 38 U.S.C. 2302.

Title: Application for Chapter 23 Burial Benefits.

OMB Control Number: 2900-NEW.

Type of Review: Request for a NEW control number.

Abstract: A claimant's eligibility for needs-based pension programs are determined in part by countable family income and certain deductible expenses. Under the authority of 38 U.S.C. Chapter 23 “Burial Benefits,” including 38 U.S.C. 2302, VA uses the information provided on VA Form 21P-530EZ to evaluate respondents' eligibility for monetary burial benefits, including the burial allowance, plot or internment allowance, and transportation reimbursement. In these situations, VBA uses VA Form 21P-530EZ Application for Burial Benefits, to gather information that is necessary to determine eligibility for income-based benefits and the rate payable; without this information, determination of eligibility would not be possible. The program office submits 21P-530EZ (Under 38 U.S.C. Chapter 23) as a new form for electronic submissions (automation).

The program office requests removal of the 21P-530EZ (Under 38 U.S.C. Chapter 23), from the 2900-0003 series, as the form should have been submitted as a new form and the name has changed, requiring a separate control number. The Federal Register Notice with a 60-day comment period soliciting comments on this collection of information was published at 86 FR 156 on August 17, 2021, pages 46095.

Affected Public: Individuals or Households.

Estimated Annual Burden: 70,000 hours.

Estimated Average Burden per Respondent: 30 minutes.

Frequency of Response: Once.

Estimated Number of Respondents: 140,000.

By direction of the Secretary.
Maribel Aponte,
VA PRA Clearance Officer, Office of Enterprise and Integration, Data Governance Analytics, Department of Veterans Affairs.

[FR Doc. 2021-23106 Filed 10-21-21; 8:45 am]

BILLING CODE 8320-01-P